DEPARTMENT OF HOMELAND SECURITY

Coast Guard

33 CFR Part 138

[USCG-2008-0007]

RIN 1625-AB25

Consumer Price Index Adjustments of Oil Pollution Act of 1990 Limits of Liability—Vessels and Deepwater Ports

AGENCY: Coast Guard, DHS.

ACTION: Rule; information collection approval.

SUMMARY: On July 1, 2009, the Coast Guard amended the Oil Pollution Act of 1990 limits of liability for vessels and deepwater ports to reflect significant increases in the Consumer Price Index. The amendment triggered information collection requirements affecting vessel operators required to establish evidence of financial responsibility. This notice announces that the collection of information has been approved by the Office of Management and Budget (OMB) and may now be enforced. The OMB Control Number is 1625-0046.

DATES: The collection of information requirement under 33 CFR 138.85 will be enforced from August 13, 2010.

FOR FURTHER INFORMATION CONTACT: If you have questions on this document contact Mr. Benjamin White, National Pollution Funds Center, Coast Guard, telephone 202-493-6863, e-mail Benjamin.H.White@uscg.mil. If you have questions on viewing the docket (USCG-2005-21780), call Ms. Renee V. Wright, Program Manager, Docket Operations, telephone 202-366-9826.

SUPPLEMENTARY INFORMATION: On July 1, 2009, the Coast Guard published an interim rule entitled “Consumer Price Index Adjustments of Oil Pollution Act of 1990 Limits of Liability—Vessels and Deepwater Ports” (74 FR 31357) (CPI interim rule). This interim rule amended the Oil Pollution Act of 1990 limits of liability for vessels and deepwater ports under 33 CFR part 138 subpart B to reflect significant increases in the Consumer Price Index as required by 33 U.S.C. 2704(d)(4). These limit of liability amendments triggered information collection requirements under 33 CFR 138.85. This provision requires operators of vessels to establish evidence of financial responsibility under OPA 90, 33 U.S.C. 2716, acceptable to the Director, National Pollution Funds Center, in an amount equal to or greater than the total applicable amounts determined under 33 CFR 138.80(f). The total applicable amounts are, in turn, determined by reference to the limits of liability in 33 CFR part 138, subpart B. On January 6, 2010, the Coast Guard published a final rule adopting the interim rule without change (75 FR 750).

With the exception of this collection of information, the CPI interim rule limit of liability amendments became effective on July 31, 2009. As required by the Paperwork Reduction Act of 1995 (44 U.S.C. 3501-3520), the preambles to the interim rule and the final rule stated that the Coast Guard would not enforce the collection of information requirements occurring under 33 CFR 138.85 until the collection of information request was approved by OMB, and also stated that the Coast Guard would publish a notice in the Federal Register announcing that OMB approved and assigned a control number for the requirement.

The Coast Guard submitted the information collection request to OMB for approval in accordance with the Paperwork Reduction Act of 1995. On June 18, 2010, OMB approved the collection of information and assigned the collection OMB Control Number 1625-0046 entitled “Financial Responsibility for Water Pollution (Vessels).” The approval for this collection of information expires on July 31, 2012. A copy of the OMB notice of action is available in our online docket at http://www.regulations.gov.

Dated: August 3, 2010.
Craig A. Bennett,
Director, National Pollution Funds Center, U.S. Coast Guard.

[FR Doc. 2010-19753 Filed 8-12-10; 8:45 am]

BILLING CODE 9110-04-P